DEPARTMENT OF COMMERCE

Foreign-Trade Zones Board

[Order No. 1168]

Expansion of Foreign-Trade Zone 44 Mount Olive, NJ Area

Pursuant to its authority under the Foreign-Trade Zones Act of June 18, 1934, as amended (19 U.S.C. 81a-81u), the Foreign-Trade Zones (FTZ) Board (the Board) adopts the following Order:

Whereas, the New Jersey Commerce and Economic Growth Commission, grantee of Foreign-Trade Zone 44, submitted an application to the Board for authority to expand FTZ 44 to include the Rockefeller Cranbury Industrial Park (309 acres) in Cranbury Township (Middlesex County), New Jersey (Site 2), within the New York/Newark Customs port of entry (FTZ Docket 52-2000; filed 8/22/00);

Whereas, notice inviting public comment was given in the Federal Register (65 FR 52984, 8/31/00; extended, 65 FR 76218, 12/6/00) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 44 is approved, subject to the Act and the Board's regulations, including Section 400.28.

Signed at Washington, DC, this 29th day of May 2001.
Faryar Shirzad,
Assistant Secretary of Commerce for Import Administration, Alternate Chairman, Foreign-Trade Zones Board.

Dennis Puccinelli,
Executive Secretary.

[FR Doc. 01-14795 Filed 6-11-01; 8:45 am]

BILLING CODE 3510-DS-P